DEPARTMENT OF THE INTERIOR

Bureau of Land Management

[LLIDT000000.L11200000.DD0000.241A.00]

Notice of Public Tour and Meeting, Twin Falls District Resource Advisory Council, Idaho

AGENCY: Bureau of Land Management, Interior.

ACTION: Notice of public tour and meeting.

SUMMARY: In accordance with the Federal Land Policy and Management Act (FLPMA), the Federal Advisory Committee Act of 1972 (FACA), and the Federal Lands Recreation Enhancement Act of 2004 (FLREA), the U.S. Department of the Interior, Bureau of Land Management (BLM) Twin Falls District Resource Advisory Council (RAC) will attend a two-day tour and meeting as indicated below.

DATES: July 20-21, 2010. The Twin Falls District RAC members will meet at the Twin Falls District Office at 2536 Kimberly Road, Twin Falls, ID at 8 a.m. to begin the tour on July 20, 2010. Members will then tour the Tee Maze cave, the proposed site for the relocation of the Friedman Memorial Airport, and the Camas Forest restoration project. These areas or projects are managed by the BLM Shoshone Field Office. The public is welcome to participate in this tour. On July 21, the RAC members will meet at the Hailey Community Campus located at 1050 Fox Acres Road, Hailey, ID 83333. The meeting will begin at 8:30 a.m. and end no later than 4 p.m. The public comment period for the RAC meeting will take place 9 a.m. to 9:30 a.m. on July 21 at the Hailey Community Campus.

FOR FURTHER INFORMATION CONTACT: Heather Tiel-Nelson, Twin Falls District, Idaho, 2536 Kimberly Road, Twin Falls, Idaho 83301, (208) 736-2352.

SUPPLEMENTARY INFORMATION: The 15-member RAC advises the Secretary of the Interior, through the Bureau of Land Management, on a variety of planning and management issues associated with public land management in Idaho. During this meeting, RAC members will discuss the proposed site for the relocation of the Friedman Memorial Airport, the Camas Forest Restoration project, the draft Jarbidge Resource Management Plan if it has been released at this time, and the BLM's strategy for wild horse and burro management.

Additional topics may be added and will be included in local media announcements. More information is available at http://www.blm.gov/id/st/en/res/resource_advisory.3.html.

RAC meetings are open to the public. For further information about the meeting, please contact Heather Tiel-Nelson, Public Affairs Specialist for the Twin Falls District, BLM at (208) 736-2352.

Dated: June 10, 2010.
Bill Baker,
District Manager.

[FR Doc. 2010-15162 Filed 6-22-10; 8:45 am]

BILLING CODE 4310-GG-P